DEPARTMENT OF TRANSPORTATION

Federal Railroad Administration

[Docket Number FRA-2006-24216]

Petition for Extension of Waiver of Compliance

Under part 211 of title 49 Code of Federal Regulations (CFR), this document provides the public notice that by letters received on March 25, 2024, and April 26, 2024, the Sacramento Regional Transit District (SacRT) petitioned the Federal Railroad Administration (FRA) for an extension of a waiver of compliance from certain provisions of the Federal railroad safety regulations contained at 49 CFR part 222 (Use of Locomotive Horns at Public Highway-Rail Grade Crossings), part 229 (Railroad Locomotive Safety Standards), and part 234 (Grade Crossing Safety). The relevant Docket Number is FRA-2006-24216.

Specifically, SacRT requested to extend its existing relief for its rail fixed guideway public transit operation that shares limited connections in corridors with Union Pacific Railroad. SacRT requested continued relief from part 222 for grade crossings on its Gold Line (except the Jackson grade crossing), as the light rail “operates frequent service within proximity to residential areas,” and “sounding horns would be a noise nuisance.” Alternatively, SacRT uses a gong 200 feet prior and through the crossings.

Additionally, SacRT sought to extend the relief from § 229.125, Headlights and auxiliary lights, to substitute driving lights, which do not meet the 200,000-candela requirement, in place of the railroad head lamp. The alternative lights are used when the light rail shares traffic lanes with automobiles, for the safety of other drivers. In its April 26, 2024, letter SacRT clarified that this relief would only apply to its legacy vehicles, which it plans to start decommissioning within the next 10 years.

Finally, SacRT requested to extended the relief from § 234.105(c)(3), Activation failure, to allow the light rail operator to “stop the train[] prior to entering the failed grade crossing, operate at restricted speed (10 [miles per hour] max), and sound a horn audible while traveling through the crossing.”

SacRT additionally requested that its fleet of S700 light rail vehicles be included in this waiver, which will “provide a modern travel experience for the public” with easier access at doorways and improved accessibility with wider aisles.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by August 5, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-12278 Filed 6-4-24; 8:45 am]

BILLING CODE 4910-06-P